DEPARTMENT OF HOMELAND SECURITY

Federal Emergency Management Agency

44 CFR Part 67

[Docket ID FEMA-2011-0002; Internal Agency Docket No. FEMA-B-1212]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before November 15, 2011.

ADDRESSES: The corresponding preliminary Flood Insurance Rate Map (FIRM) for the proposed BFEs for each community is available for inspection at the community's map repository. The respective addresses are listed in the table below.

You may submit comments, identified by Docket No. FEMA-B-1212, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
City of Denver, Colorado
Colorado | City of Denver | First Creek | Approximately 1,340 feet downstream of Pena Boulevard West | None | +5308
|  |  | Approximately 0.5 mile upstream of 42nd Avenue | None | +5440
Colorado | City of Denver | First Creek | At the First Creek confluence | None | +5382
|  | Tributary T | At the upstream side of Picadilly Road | None | +5417
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Denver
Maps are available for inspection at the Department of Public Works, 201 West Colfax Avenue, Denver, CO 80202.
Unincorporated Areas of Craven County, North Carolina
North Carolina | Unincorporated Areas of Craven County | Mosley Creek (into Neuse River) | At the upstream side of William Pearce Road | +26 | +25
|  |  | Approximately 0.5 mile upstream of Dover Fort Barnwell Road | None | +46
North Carolina | Unincorporated Areas of Craven County | Mosley Creek Tributary | At the Mosley Creek (into Neuse River) confluence | +29 | +25
|  |  | Approximately 1.0 mile upstream of State Route 55 | +37 | +36
North Carolina | Unincorporated Areas of Craven County | Tracey Swamp | At the Mosley Creek (into Neuse River) confluence | +42 | +39
|  |  | Approximately 1.0 mile downstream of the Jones County boundary | +42 | +41
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Craven County
Maps are available for inspection at the Craven County Government Offices, 2822 Neuse Boulevard, New Bern, NC 28562.
Unincorporated Areas of Jones County, North Carolina
North Carolina | Unincorporated Areas of Jones County | Southwest Creek Tributary | Approximately 1,750 feet downstream of British Road | +34 | +35
|  |  | Approximately 1,000 feet upstream of British Road | +40 | +41
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Craven County
Maps are available for inspection at the Jones County Office Complex, 418 State Route 58 North, Trenton, NC 28585.
Unincorporated Areas of Wayne County, North Carolina
North Carolina | Unincorporated Areas of Wayne County | Bear Creek | At the upstream side of Parkstown Road | +84 | +83
|  |  | Approximately 150 feet downstream of Rodell Barrow Road | +112 | +113
North Carolina | Unincorporated Areas of Wayne County | Button Branch | At the Nahunta Swamp confluence | +68 | +67
|  |  | Approximately 400 feet upstream of the Greene County boundary | +70 | +72
North Carolina | Unincorporated Areas of Wayne County | Nahunta Swamp | Approximately 1,800 feet downstream of the Greene County boundary | +68 | +65
|  |  | Approximately 0.4 mile upstream of The Slough confluence | +74 | +72
North Carolina | Unincorporated Areas of Wayne County | The Slough | At the Nahunta Swamp confluence | +73 | +71
|  |  | Approximately 1,800 feet upstream of the Nahunta Swamp confluence | +73 | +72
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Wayne County
Maps are available for inspection at the Wayne County Courthouse, 224 East Walnut Street, Goldsboro, NC 27533.
Unincorporated Areas of Wilson County, North Carolina
North Carolina | Unincorporated Areas of Wilson County | Little Contentnea Creek | Approximately 450 feet downstream of Eagles Cross Road | +87 | +83
|  |  | Approximately 1.1 miles upstream of Eagles Cross Road | +91 | +90
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Wilson County
Maps are available for inspection at the Wilson County Manager's Office, 2201 Miller Road South, Wilson, NC 27893.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Beaufort County, North Carolina, and Incorporated Areas
Aggie Run | At the Tranters Creek confluence | +13 | +11 | City of Washington, Unincorporated Areas of Beaufort County.
| Approximately 0.5 mile upstream of VOA Road | +13 | +12
Maple Branch | At the Tranters Creek confluence | +10 | +9 | City of Washington, Unincorporated Areas of Beaufort County.
| Approximately 1.3 miles upstream of U.S. Route 264 | None | +21
Mitchell Branch | At the Tranters Creek confluence | +10 | +9 | City of Washington, Unincorporated Areas of Beaufort County.
| Approximately 1,100 feet upstream of Cherry Run Road | None | +23
Tranter Creek | Approximately 250 feet downstream of the Mitchell Branch confluence | +10 | +9 | Unincorporated Areas of Beaufort County.
| Approximately 1.5 miles downstream of the Horsepen Swamp confluence | +15 | +14
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Washington
Maps are available for inspection at the Building and Inspection Department, 102 East 2nd Street, Washington, NC 27889.
Unincorporated Areas of Beaufort County
Maps are available for inspection at the Beaufort County Building Inspection Department, 220 North Market Street, Washington, NC 27889.
Greene County, North Carolina, and Incorporated Areas
Appletree Swamp | Approximately 200 feet downstream of Nahunta Road | +54 | +55 | Unincorpo­rated Areas of Greene County.
| Approximately 0.4 mile upstream of Apple Tree Road | +76 | +75
Bear Creek | At the upstream side of Parkstown Road | +84 | +83 | Unincorpo­rated Areas of Greene County.
| Approximately 0.9 mile upstream of Oakdale Road | +106 | +107
Button Branch | At Fort Run Road | +69 | +70 | Unincorpo­rated Areas of Greene County.
| Approximately 1.3 miles upstream of Fort Run Road | +84 | +82
Contentnea Creek | Approximately 2.3 miles downstream of the Wheat Swamp confluence | +35 | +34 | Town of Hookerton, Town of Snow Hill, Unincorporated Areas of Greene County.
| Approximately 1,300 feet upstream of State Route 58 | +62 | +63
Contentnea Creek Tributary 8 | At the Contentnea Creek confluence | +47 | +41 | Town of Snow Hill, Unincorporated Areas of Greene County.
| Approximately 200 feet upstream of Kingold Boulevard | None | +64
Contentnea Creek Tributary 9 | At the Contentnea Creek confluence | +48 | +43 | Town of Snow Hill, Unincorporated Areas of Greene County.
| Approximately 1.5 miles upstream of Beaman Old Creek Road | None | +65
Cow Branch | At the Nahunta Swamp confluence | +61 | +60 | Unincorpo­rated Areas of Greene County.
| Approximately 2.1 miles upstream of Cow Branch Road | None | +114
Fort Run | At the Contentnea Creek confluence | +50 | +47 | Unincorpo­rated Areas of Greene County.
| Approximately 1,800 feet upstream of Gurganus Road | +82 | +83
Little Contentnea Creek | Approximately 1,500 feet downstream of State Route 903 | +32 | +31 | Unincorpo­rated Areas of Greene County.
| At the Wilson County boundary | +87 | +83
Middle Swamp | At the Little Contentnea Creek confluence | +43 | +42 | Unincorpo­rated Areas of Greene County.
| Approximately 300 feet upstream of U.S. Route 258 | +63 | +62
Nahunta Swamp | At the Contentnea Creek confluence | +52 | +51 | Unincorpo­rated Areas of Greene County.
| At the Button Branch confluence | +68 | +66
Poorhouse Run | At the Contentnea Creek confluence | +46 | +41 | Town of Snow Hill, Unincorporated Areas of Greene County.
| Approximately 0.7 mile upstream of Kingold Boulevard | None | +71
Rainbow Creek | At the Contentnea Creek confluence | +38 | +35 | Town of Hookerton, Unincorporated Areas of Greene County.
| At the downstream side of Lloyd Harrison Road | +64 | +63
Sandy Run | At the Middle Swamp confluence | +44 | +45 | Unincorpo­rated Areas of Greene County.
| Approximately 0.7 mile upstream of the Middle Swamp confluence | +44 | +45
Toisnot Swamp | At the Contentnea Creek confluence | +62 | +59 | Unincorp­orated Areas of Greene County.
| Approximately 200 feet upstream of the railroad | +62 | +63
Tyson Marsh | At the Contentnea Creek confluence | +49 | +43 | Unincorpo­rated Areas of Greene County.
| Approximately 1,300 feet downstream of Gray Turnage Road | +70 | +69
Wheat Swamp | At the Contentnea Creek confluence | +36 | +34 | Unincorpo­rated Areas of Greene County.
| Approximately 1.1 miles upstream of Hugo Road | +36 | +35
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Hookerton
Maps are available for inspection at the Town Hall, 227 East Main Street, Hookerton, NC 28538.
Town of Snow Hill
Maps are available for inspection at the Town Hall, 201 North Green Street, Snow Hill, NC 28580.
Unincorporated Areas of Greene County
Maps are available for inspection at the Greene County Water Department, 229 Kingold Boulevard, Suite B, Snow Hill, NC 28580.
Lenoir County, North Carolina, and Incorporated Areas
Adkin Branch | At the upstream side of West Gordon Street | +37 | +36 | City of Kinston, Unincorporated Areas of Lenoir County.
| At the upstream side of Crawford Street | +75 | +76
Briery Run | Approximately 1,100 feet upstream of the Stonyton Creek confluence | +36 | +35 | City of Kinston, Unincorporated Areas of Lenoir County.
| Approximately 1,500 feet upstream of Rouse Road | +67 | +66
Deep Run | At the Southwest Creek confluence | +76 | +74 | Unincorpo­rated Areas of Lenoir County.
| Approximately 450 feet upstream of State Route 11 | +87 | +88
Eagle Swamp | Approximately 1,300 feet downstream of South Highland Avenue | +26 | +25 | Unincorpo­rated Areas of Lenoir County.
| At the downstream side of Sharon Church Road | +50 | +52
Falling Creek | Approximately 0.4 mile upstream of Pruitt Road | +43 | +42 | Unincorpo­rated Areas of Lenoir County.
| Approximately 700 feet downstream of the Jumping Run confluence | +68 | +67
Falling Creek Tributary | At the Falling Creek confluence | +55 | +54 | Unincorpo­rated Areas of Lenoir County.
| Approximately 300 feet upstream of Springwood Bridge | None | +79
Groundnut Creek | At the Mosley Creek (into Falling Creek) confluence | +71 | +68 | Unincorpo­rated Areas of Lenoir County.
| Approximately 150 feet upstream of Harrison Phelps Road | +92 | +91
Gum Swamp | At the Falling Creek confluence | +58 | +57 | Unincorpo­rated Areas of Lenoir County.
| Approximately 250 feet upstream of Wheat Swamp Road | None | +91
Jericho Run | Approximately 200 feet downstream of State Route 55 | +29 | +30 | City of Kinston, Unincorporated Areas of Lenoir County.
| Approximately 250 feet upstream of Cunningham Road | None | +53
Jericho Run Tributary | At the Jericho Run confluence | +43 | +44 | City of Kinston, Unincorporated Areas of Lenoir County.
| Approximately 250 feet upstream of the railroad | None | +66
Jumping Run | Approximately 0.4 mile upstream of the Falling Creek confluence | +70 | +71 | Unincorpo­rated Areas of Lenoir County.
| Approximately 200 feet upstream of Jumping Run Church Road | None | +107
Mosley Creek (into Falling Creek) | At the Falling Creek confluence | +64 | +62 | Town of La Grange, Unincorporated Areas of Lenoir County.
| Approximately 360 feet upstream of State Route 903 | None | +90
Mosley Creek (into Neuse River) | Approximately 100 feet upstream of William Pearce Road | +26 | +25 | Unincorpo­rated Areas of Lenoir County.
| At the Tracey Swamp confluence | +42 | +39
Neuse River Tributary | Approximately 700 feet upstream of U.S. Route 70 | +43 | +42 | City of Kinston, Unincorporated Areas of Lenoir County.
| At the upstream side of the railroad | +51 | +52
Rivermont Tributary | At the upstream side of West New Bern Road | +37 | +38 | City of Kinston, Unincorporated Areas of Lenoir County.
| Approximately 1,300 feet upstream of Old Asphalt Road | +39 | +38
Southwest Creek | Approximately 400 feet upstream of U.S. Route 70 | +39 | +36 | City of Kinston, Unincorporated Areas of Lenoir County.
| Approximately 1.0 mile upstream of Liddell Road | +129 | +128
Stonyton Creek | Approximately 1,900 feet upstream of State Route 11 | +30 | +29 | City of Kinston, Unincorporated Areas of Lenoir County.
| At the downstream side of John Mewborne Road | +66 | +63
Strawberry Branch | At the Southwest Creek confluence | +39 | +37 | City of Kinston, Unincorporated Areas of Lenoir County.
| Approximately 170 feet downstream of Whaley Road | +47 | +49
Taylors Branch | At the Briery Run confluence | +64 | +61 | City of Kinston, Unincorporated Areas of Lenoir County.
| Approximately 1,500 feet upstream of Rouse Road | +75 | +74
Tracey Swamp | At the Mosley Creek (into Neuse River) confluence | +42 | +39 | Unincorpo­rated Areas of Lenoir County.
| Approximately 1.0 mile downstream of the Jones County boundary | +42 | +41
Tuckahoe Swamp | Approximately 1,500 feet downstream of West Pleasant Hill Road | +88 | +87 | Unincorpo­rated Areas of Lenoir County.
| Approximately 525 feet upstream of Ash Davis Road | None | +97
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Kinston
Maps are available for inspection at City Hall, 207 East King Street, Kinston, NC 28501.
Town of La Grange
Maps are available for inspection at the Town Hall, 203 South Center Street, La Grange, NC 28551.
Unincorporated Areas of Lenoir County
Maps are available for inspection at the Lenoir County Administration Office, 101 North Queen Street, Kinston, NC 28502.
Pitt County, North Carolina, and Incorporated Areas
Back Swamp | At the downstream side of Weyerhaeuser Road | +40 | +41 | Town of Ayden, Town of Grifton, Unincorporated Areas of Pitt County.
| Approximately 300 feet upstream of Gas Plant Lane | +63 | +62
Baldwin Swamp | At the Moyes Run/Cannon Swamp confluence | +18 | +17 | City of Greenville, Unincorporated Areas of Pitt County.
| Approximately 1.4 miles upstream of the Baldwin Swamp North Tributary confluence | +21 | +19
Baldwin Swamp North Tributary | At the Baldwin Swamp confluence | +20 | +17 | City of Greenville, Unincorporated Areas of Pitt County.
| At the downstream side of U.S. Route 264 Alternate | +21 | +20
Bates Branch | Approximately 60 feet upstream of the Juniper Branch confluence | +29 | +28 | Unincorpo­rated Areas of Pitt County, Village of Simpson.
| Approximately 1,000 feet upstream of Simpson Street | None | +46
Bells Branch | Approximately 0.5 mile upstream of the Hardee Creek confluence | +21 | +20 | City of Greenville.
| Approximately 625 feet upstream of York Road | None | +56
Black Swamp | At the Little Contentnea Creek confluence | +63 | +61 | Town of Farmville, Unincorporated Areas of Pitt County.
| Approximately 0.6 mile upstream of the Little Contentnea Creek confluence | +63 | +62
Chicod Creek | Approximately 550 feet upstream of the Juniper Branch confluence | +16 | +15 | Town of Grimesland, Unincorporated Areas of Pitt County.
| At the downstream side of Mobleys Bridge Road | +16 | +15
Contentnea Creek South Tributary | Approximately 1.0 mile upstream of the Contentnea Creek confluence | None | +25 | Town of Grifton, Unincorporated Areas of Pitt County.
| Approximately 0.7 mile upstream of McCrae Street | +31 | +33
Eagle Swamp | Approximately 0.3 mile downstream of South Highland Avenue | +26 | +25 | Town of Grifton.
| Approximately 500 feet upstream of Skeeter Pond Road | +33 | +31
Fork Swamp | Approximately 0.3 mile upstream of Fire Tower Road (State Route 1708) | +58 | +59 | City of Greenville, Town of Winterville, Unincorporated Areas of Pitt County.
| Approximately 330 feet upstream of Baywood Lane | None | +71
Fork Swamp Tributary 2 | Approximately 1,500 feet upstream of the Fork Swamp confluence | +54 | +53 | City of Greenville.
| Approximately 250 feet upstream of Fire Tower Road | None | +68
Fornes Run | Approximately 0.4 mile downstream of 14th Street | +29 | +28 | City of Greenville.
| Approximately 500 feet upstream of Elm Street | None | +60
Green Mill Run | Approximately 1,500 feet upstream of Dickinson Avenue | +56 | +55 | City of Greenville.
| Approximately 0.4 mile upstream of Allen Road | None | +69
Grindle Creek | Approximately 600 feet upstream of State Route 11 | None | +39 | Town of Bethel, Unincorporated Areas of Pitt County.
| Approximately 440 feet upstream of State Route 11 Business | None | +52
Horse Swamp | At the upstream side of Jolly Road | +51 | +52 | Unincorpo­rated Areas of Pitt County.
| Approximately 0.4 mile upstream of Jolly Road | None | +54
Indian Well Swamp | Approximately 0.8 mile downstream of State Route 43 | +39 | +38 | Unincorpo­rated Areas of Pitt County.
| Approximately 0.7 mile upstream of Ivy Road | None | +56
Jacob Branch | At the Black Swamp confluence | +63 | +61 | Town of Farmville, Unincorporated Areas of Pitt County.
| Approximately 0.3 mile upstream of the Black Swamp confluence | +63 | +62
Lateral No. 2 | Approximately 0.4 mile upstream of the Parkers Creek confluence | +24 | +25 | City of Greenville.
| Approximately 1.1 miles upstream of the Parkers Creek confluence | None | +29
Little Contentnea Creek | Approximately 0.3 mile downstream of State Route 903 | +32 | +31 | Town of Farmville, Unincorporated Areas of Pitt County.
| Approximately 450 feet downstream of Spring Branch Church Road (State Route 1308) | +87 | +83
Little Contentnea Creek Tributary 1 | At the Little Contentnea Creek confluence | +33 | +32 | Unincorpo­rated Areas of Pitt County.
| Approximately 1.2 miles upstream of the Little Contentnea Creek confluence | +33 | +32
Meeting House Branch | At the Bells Branch confluence | +24 | +23 | City of Greenville.
| At King George Road | +36 | +37
Middle Swamp | At the Little Contentnea Creek confluence | +43 | +42 | Town of Farmville, Unincorporated Areas of Pitt County.
| Approximately 700 feet upstream of U.S. Route 258 | +63 | +62
Moyes Run—Cannon Swamp | Approximately 500 feet downstream of the Baldwin Swamp confluence | +18 | +17 | City of Greenville, Unincorporated Areas of Pitt County.
| At the downstream side of Old Creek Road | None | +25
Parkers Creek | Approximately 150 feet downstream of Old Creek Road | +23 | +22 | City of Greenville.
| Approximately 300 feet downstream of the Lateral No. 2 confluence | +24 | +23
Pinelog Branch | Approximately 900 feet downstream of Askew Road | +52 | +53 | Unincorpo­rated Areas of Pitt County.
| Approximately 1,500 feet upstream of Fred Drive | None | +78
Pinelog Branch North Tributary | At the Pinelog Branch confluence | +66 | +65 | Unincorpo­rated Areas of Pitt County.
| At the downstream side of Mozingo Road | +70 | +71
Pinelog Branch South Tributary | Approximately 100 feet upstream of the Pinelog Branch confluence | +70 | +69 | Unincorpo­rated Areas of Pitt County.
| Approximately 0.5 mile upstream of Stantonsburg Road | None | +81
Swift Creek | Approximately 0.4 mile upstream of Davenport Farm Road | None | +59 | City of Greenville, Town of Ayden, Town of Winterville, Unincorporated Areas of Pitt County.
| Approximately 360 feet upstream of Thomas Langston Road | None | +68
Swift Creek Tributary 2 | Approximately 0.6 mile upstream of Red Forbes Road | None | +60 | Town of Winterville, Unincorporated Areas of Pitt County.
| Approximately 0.7 mile upstream of Red Forbes Road | None | +62
Tranters Creek | Approximately 250 feet downstream of the Mitchell Branch confluence | +10 | +9 | Unincorpo­rated Areas of Pitt County.
| Approximately 0.6 mile downstream of the Poley Branch confluence | +15 | +14
Ward Run | At the Little Contentnea Creek confluence | +81 | +79 | Unincorpo­rated Areas of Pitt County.
| Approximately 0.3 mile upstream of the Little Contentnea Creek confluence | +81 | +80
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Greenville
Maps are available for inspection at the Department of Public Works, 1500 Beatty Street, Greenville, NC 27834.
Town of Ayden
Maps are available for inspection at the Pitt County Planning Department, 1717 West 5th Street, Greenville, NC 27834.
Town of Bethel
Maps are available for inspection at the Pitt County Planning Department, 1717 West 5th Street, Greenville, NC 27834.
Town of Farmville
Maps are available for inspection at the Town Hall, 3672 North Main Street, Farmville, NC 27828.
Town of Grifton
Maps are available for inspection at the Pitt County Planning Department, 1717 West 5th Street, Greenville, NC 27834.
Town of Grimesland
Maps are available for inspection at the Pitt County Planning Department, 1717 West 5th Street, Greenville, NC 27834.
Town of Winterville
Maps are available for inspection at the Pitt County Planning Department, 1717 West 5th Street, Greenville, NC 27834.
Unincorporated Areas of Pitt County
Maps are available for inspection at the Pitt County Planning Department, 1717 West 5th Street, Greenville, NC 27834.
Village of Simpson
Maps are available for inspection at Pitt County Planning Department, 1717 West 5th Street, Greenville, NC 27834.

(Catalog of Federal Domestic Assistance No. 97.022, “Flood Insurance.”)

Dated: August 5, 2011.
Sandra K. Knight,
Deputy Federal Insurance and Mitigation Administrator, Mitigation, Department of Homeland Security, Federal Emergency Management Agency.

[FR Doc. 2011-20866 Filed 8-16-11; 8:45 am]

BILLING CODE 9110-12-P